DEPARTMENT OF TRANSPORTATION

Federal Aviation Administration

Notice of Availability of Final Environmental Impact Statement (FEIS) Containing a Final Air Quality General Conformity Determination (FGCD), (Preliminary) Final Section 106 Historic Resources Report, and Virginia Coastal Zone Consistency Determination: Notice of EPA 30-day Hold Period and Notice of Comment Period for Proposed New Runways and Associated Development at Washington Dulles International Airport, Chantilly, VA

AGENCY: Federal Aviation Administration (FAA), DOT. The U.S. Army Corps of Engineers (USACE) is a cooperating Federal agency, having jurisdiction by law because the proposed Federal action has the potential for significant wetland impacts.

ACTION: Notice of availability, notice of EPA 30-day hold period, notice of comment period.

SUMMARY: The Federal Aviation Administration (FAA) is issuing this notice to advise the public that a Final Environmental Impact Statement (FEIS)—Proposed New Runways and Associated Development at Washington Dulles International Airport, has been prepared and is available for public review and comment. The FEIS incorporates a Final Air Quality General Conformity Determination (FGCD), (Preliminary) Final Section 106 Historic Resources Report and a Virginia Coastal Zone Consistency Determination. Written requests for the FEIS and written comments on the FEIS and related documents can be submitted to the individual listed in the section FOR FURTHER INFORMATION CONTACT. The EPA 30-day Hold Period and FEIS comment period will commence on August 19, 2005, and will close on September 19, 2005.

FEIS Availability: Copies of the FEIS and related documents may be viewed during regular business hours at the following locations:

1. Centreville Regional Library, 14200 St. Germaine Drive, Centreville, VA.

2. Chantilly Regional Library, 4000 Stringfellow Road, Chantilly, VA.

3. Great Falls Library, 9830 Georgetown Pike, Great Falls, VA.

4. Herndon Fortnightly Library, 768 Center Street, Herndon, VA.

5. Reston Regional Library, 11925 Bowman Towne Drive, Reston, VA.

6. Fairfax City Regional Library, 3915 Chain Bridge Road, Fairfax, VA.

7. Ashburn Library, 43316 Hay Road, Ashburn, VA.

8. Rust Library, 380 Old Waterford Road, Leesburg, VA.

9. Middleburg Library, 101 Reed Street, Middleburg, VA.

10. Purcellville Library, 220 E. Main Street, Purcellville, VA.

11. Sterling Library, 120 Enterprise Street, Sterling, VA.

12. Eastern Loudoun Regional Library, 21030 Whitfield Place, Sterling, VA.

13. Tysons-Pimmit Regional Library, 7584 Leesburg Pike, Falls Church, VA.

A limited number of copies of the FEIS and related documents will also be available for review by appointment only at the following FAA/Metropolitan Washington Airports Authority (MWAA) Offices. Please call to make arrangements for viewing: Federal Aviation Administration, Washington Airports District Office, 23723 Air Freight Lane, Suite 210, Dulles, VA, (703) 661-1368; Washington Dulles International Airport, Airport Managers Office, Main Terminal Baggage Claim Level, Dulles, VA, (703) 572-2710. An Executive Summary will be available August 13, 2005 on Dulles Airport's Web site at http://www.mwaa.com/dulles/EnvironmentalStudies/RunwaysEIS.htm.

FOR FURTHER INFORMATION CONTACT: Joseph Delia, Project Manager, Federal Aviation Administration, Washington Airports District Office, 23723 Air Freight Lane, Suite 210, Dulles, VA. Mr. Delia can be contacted at (703) 661-1358.

SUPPLEMENTARY INFORMATION: The Federal Aviation Administration (FAA) is issuing this Notice of Availability to advise the public that a Final Environmental Impact Statement (FEIS) containing a Final Air Quality General Conformity Determination (FGCD), (Preliminary) Final Section 106 Historic Resources Report and a Virginia Coastal Zone Consistency Determination will be available for public review beginning August 11, 2005. The FEIS details the proposed development of two new runways, terminal facilities, and related facilities at Washington Dulles International Airport (IAD), Dulles, Virginia.

The U.S. Army Corps of Engineers (USACE) is a cooperating Federal agency, having jurisdiction by law because the proposed Federal action has the potential for significant wetland impacts.

The FEIS presents the purpose and need for the proposed project, a comprehensive analysis of the alternatives to the proposed project, including the no-action alternative and potential environmental impacts associated with the proposed development of two new air carrier runways and related improvements at IAD. The FEIS also identifies the FAA's Preferred Alternative (Build Alternative 3) and sets forth the Mitigation Program for the Preferred Alternative that will be implemented by the Metropolitan Washington Airports Authority (MWAA) to off-set unavoidable environmental impacts.

In accordance with section 176(c) of the Federal Clean Air Act, FAA has assessed whether the air emissions that would result from FAA's action in approving the proposed projects conform with the State Implementation Plan (SIP). The results of this assessment indicate that the Preferred Alternative has demonstrated conformity with the SIP. This assessment is contained in the Air Quality General Conformity Determination.

Pursuant to the National Historic Preservation Act of 1966, as amended, including Executive Order 11593, Protection and Enhancement of the Cultural Environment, FAA has assessed whether its action in approving the proposed project would result in significant impact to Historic and Archaeological Resources. The results of this assessment indicate that the Preferred Alternative would result in impacts to resources that are listed in, and eligible for, listing in the National Register of Historic Places. FAA is consulting with the Virginia State Historic Preservation Office (SHPO) concerning the effects assessment and the execution of a project specific Memorandum of Agreement (MOA) that will identify treatment of the affected resources.

In accordance with the Coastal Zone Management Act of 1972, as amended, the Preferred Alternative was evaluated for consistency with the Virginia Coastal Program. FAA's evaluation determined that the Preferred Alternative is consistent with the Virginia Coastal Zone Program.

In accordance with Executive Order 11988, Floodplain Management and Order DOT 5650.2, Floodplain Management and Protection, FAA evaluated whether the proposed project would impact base floodplain based on a 100-year flood. The results of this assessment indicate that the Preferred Alternative would result in unavoidable impacts to the base floodplain and that all available measures to minimize harm will be included in the project design. FAA's analysis has also determined that the base floodplain encroachment does not constitute a “significant” encroachment. Measures to mitigate base floodplain impact are included in the FEIS. The public has been kept informed of the base floodplain encroachment through FAA's ongoing Public Involvement Program.

Comments on the FEIS should be as specific as possible. Matters that have already been raised with specificity during the DEIS comment period may not be considered again by FAA if raised at this point in the decisionmaking process. This commenting procedure is intended to ensure that substantive comments and concerns are made available to the FAA in a timely manner so that the FAA has an opportunity to address them in the Record of Decision (ROD).

Comments from interested parties on the FEIS and related documents must be submitted in writing to the FAA at the address listed in the section entitled FOR FURTHER INFORMATION CONTACT. The comment period will close on September 19, 2005.

Issued in Washington, DC on August 9, 2005.
Terry Page,
Manager, Washington Airports District Office, Federal Aviation Administration.

[FR Doc. 05-16153 Filed 8-18-05; 8:45 am]

BILLING CODE 4910-13-M